DEPARTMENT OF TRANSPORTATION

Office of the Secretary

Aviation Proceedings, Agreements Filed the Week Ending July 16, 2004

The following Agreements were filed with the Department of Transportation under the provisions of 49 U.S.C. 412 and 414. Answers may be filed within 21 days after the filing of the application.

Docket Number: OST-2004-18622.

Date Filed: July 13, 2004.

Parties: Members of the International Air Transport Association.

Subject: PTC23 AFR-TC3 0231 dated 13 July 2004, Mail Vote 396—Resolution 010n, TC23 Africa-TC3 Special Passenger Amending Resolution from Libya to TC3 r1-r11, Intended effective date: 1 August 2004.

Docket Number: OST-2004-18652.

Date Filed: July 14, 2004.

Parties: Members of the International Air Transport Association.

Subject: CAC/32/Meet/006/2004 dated 28 June, 2004, Finally Adopted Resolutions 801/801a(III)801c/801r/801rr/ 803/805/807/809/813/823, Intended effective date: 1 October 2004.

Docket Number: OST-2004-18658.

Date Filed: July 16, 2004.

Parties: Members of the International Air Transport Association.

Subject: PTC123 0288 dated 16 July 2004, Mail Vote 397—Resolution 010o TC123 Special Passenger Amending Resolution from Brazil to TC3 r1, Intended effective date: 15 August 2004.

Andrea M. Jenkins,
Program Manager, Docket Operations, Federal Register Liaison.

[FR Doc. 04-17929 Filed 8-4-04; 8:45 am]

BILLING CODE 4910-62-P